NATIONAL AERONAUTICS AND SPACE ADMINISTRATION

[Notice: (17-057)]

Applied Sciences Advisory Committee; Meeting

AGENCY: National Aeronautics and Space Administration.

ACTION: Notice of meeting.

SUMMARY: In accordance with the Federal Advisory Committee Act, as amended, the National Aeronautics and Space Administration (NASA) announces a meeting of the Applied Sciences Advisory Committee (ASAC). This Committee functions in an advisory capacity to the Director, Earth Science Division, in the NASA Science Mission Directorate. The meeting will be held for the purpose of soliciting, from the applied sciences community and other persons, scientific and technical information relevant to program planning.

DATES: Monday, September 11, 2017, 12:00 p.m. to 3:00 p.m., Eastern Daylight Time (EDT).

FOR FURTHER INFORMATION CONTACT: Ms. KarShelia Henderson, Science Mission Directorate, NASA Headquarters, Washington, DC 20546, (202) 358-2355, or khenderson@nasa.gov.

SUPPLEMENTARY INFORMATION: This meeting will be open to the public telephonically and by WebEx. You must use a touch-tone phone to participate in this meeting. Any interested person may dial the USA toll free conference call number (888) 677-3055, passcode 4301862, followed by the # sign, to participate in this meeting by telephone. The WebEx link is https://nasa.webex.com/; the meeting number is 990 708 045 and the password is FYy83Sh@.

The agenda for the meeting includes the following topics:

• Applied Sciences Program Updates

• Continuity Study

It is imperative that the meeting be held on this date to accommodate the scheduling priorities of the key participants.

Patricia D. Rausch,
Advisory Committee Management Officer, National Aeronautics and Space Administration.

[FR Doc. 2017-16884 Filed 8-9-17; 8:45 am]

BILLING CODE 7510-13-P